DEPARTMENT OF ENERGY

Federal Energy Regulatory Commission

[Docket No. CP00-82-000]

Williams Gas Pipelines Central, Inc.; Notice of Availability of the Environmental Assessment for the Proposed Pleasant Hill Pipeline Project

June 2, 2000.

The staff of the Federal Energy Regulatory Commission (FERC or Commission) has prepared an environmental assessment (EA) on the natural gas pipeline facilities proposed by Williams Gas Pipelines Central, Inc. (Williams) in the above-referenced docket. The proposed project would include the construction and operation of approximately 1.5 miles of 24-inch-diameter pipeline; and 2,890-horsepower (hp) of compression at an existing compressor station; and the conversion of the regulatory authority of an 800-hp compressor unit at an existing compressor station from Natural Gas Policy Act (NGPA) Section 311 to Natural Gas Act (NGA) Part 284 service.

The EA was prepared to satisfy the requirements of the National Environmental Policy Act. The staff concludes that approval of the proposed project, with appropriate mitigating measures, would not constitute a major Federal action significantly affecting the quality of the human environment.

Williams proposes to build new pipeline and compression facilities to expand the capacity of its system in Kansas and Missouri. The new facilities would enable Williams to transport an additional 44,200 Dekatherms per day (Dth/d) of natural gas in the winter and an additional 88,200 Dth/d of natural gas in the summer.

The EA assesses the potential environmental effects of the construction and operation of the following proposed natural gas transmission facilities:

• About 1.5 miles of 24-inch-diameter pipeline from the Ottawa Compressor Station to the Ottawa Crossover in Franklin County, Kansas;

• Two upgraded compressor units: from 1,350-hp each to 2,000-hp each at the existing Peculiar Compressor Station in Cass County, Missouri; and

• One 1,590-hp turbine compressor at the Peculiar Compressor Station.

The EA has been placed in the public files of the FERC. A limited number of copies of the EA are available for distribution and public inspection at: Federal Energy Regulatory Commission, Public Reference and Files Maintenance Branch, 888 First Street, NE, Room 2A, Washington, DC 20426, (202) 208-1371.

Copies of the EA have been mailed to Federal, state and local agencies, public interest groups, affected landowners, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: David P. Boergers, Secretary, Federal Energy Regulatory Commission, 888 First St., N.E., Room 1A, Washington, DC 20426;

• Label one copy of the comments for the attention of the Gas/Hydro Group, PJ-11.3;

Reference Docket No. CP00-082-000; and

• Mail your comments so that they will be received in Washington, DC on or before July 1, 2000.

Comments will be considered by the Commission but will not serve to make the commentor a party to the proceeding. Any person seeking to become a party to the proceeding must file a motion to intervene pursuant to Rule 214 of the Commission's Rules of Practice and Procedures (18 CFR 385.214).

The date for filing timely motions to intervene in this proceeding has passed. Therefore, parties now seeking to file late interventions must show good cause, as required by section 385.214(b)(3), why this time limitation should be waived. Environmental issues have been viewed as good cause for late intervention. You do not need intervenor status to have your comments considered.

Additional information about the proposed project is available from Paul McKee in the Commission's Office of External Affairs, at (202) 208-1088 or on the FERC Internet website (www.ferc.fed.us) using the “RIMS” link to information this docket number. Click on the “RIMS” link, select “Docket #” from the RIMS Menu, and follow the instructions. For assistance with access to RIMS, the RIMS helpline can be reached at (202) 208-2222. Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-14397 Filed 6-7-00; 8:45 am]

BILLING CODE 6717-01-M